DEPARTMENT OF THE INTERIOR

National Park Service

[NPS-WASO-NAGPRA-NPS0036180; PPWOCRADN0-PCU00RP14.R50000]

Notice of Inventory Completion: Mütter Museum of the College of Physicians of Philadelphia, Philadelphia, PA

AGENCY: National Park Service, Interior.

ACTION: Notice.

SUMMARY: In accordance with the Native American Graves Protection and Repatriation Act (NAGPRA), the Mütter Museum of the College of Physicians of Philadelphia has completed an inventory of human remains and has determined that there is a cultural affiliation between the human remains and Indian Tribes or Native Hawaiian organizations in this notice. The human remains were removed from Santa Barbara, CA.

DATES: Repatriation of the human remains in this notice may occur on or after August 17, 2023.

ADDRESSES: Kate Quinn, Executive Director, Mütter Museum and Historic Medical Library, College of Physicians of Philadelphia, 19 S 22nd Street, Philadelphia, PA 19103, telephone (215) 399-2336, email kquinn@collegeofphysicians.org.

SUPPLEMENTARY INFORMATION: This notice is published as part of the National Park Service's administrative responsibilities under NAGPRA. The determinations in this notice are the sole responsibility of the Mütter Museum of the College of Physicians of Philadelphia. The National Park Service is not responsible for the determinations in this notice. Additional information on the determinations in this notice, including the results of consultation, can be found in the inventory or related records held by the Mütter Museum of the College of Physicians of Philadelphia.

Description

At an unknown date, human remains representing, at minimum, one individual were removed Santa Barbara, CA. Records indicate that these human remains were removed from a burial mound at the Santa Barbara Mission. On or before 1872, the human remains were in the possession of Dr. Thomas M. Logan of San Francisco, CA. The human remains were donated to the Mutter Museum at an unknown date (Dr. Logan died in 1876). The human remains (number 1167.00) consist of a skull. No known individual was identified. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, and historical.

Determinations

Pursuant to NAGPRA and its implementing regulations, and after consultation with the appropriate Indian Tribes and Native Hawaiian organizations, the Mütter Museum of the College of Physicians of Philadelphia has determined that:

• The human remains described in this notice represent the physical remains of one individual of Native American ancestry.

• There is a relationship of shared group identity that can be reasonably traced between the human remains described in this notice and the Santa Ynez Band of Chumash Mission Indians of the Santa Ynez Reservation, California.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after August 17, 2023. If competing requests for repatriation are received, the Mütter Museum of the College of Physicians of Philadelphia must determine the most appropriate requestor prior to repatriation. Requests for joint repatriation of the human remains are considered a single request and not competing requests. The Mütter Museum of the College of Physicians of Philadelphia is responsible for sending a copy of this notice to the Indian Tribe identified in this notice.

Authority: Native American Graves Protection and Repatriation Act, 25 U.S.C. 3003, and the implementing regulations, 43 CFR 10.9, 10.10, and 10.14.

Dated: July 6, 2023.
Melanie O'Brien,
Manager, National NAGPRA Program.

[FR Doc. 2023-15097 Filed 7-17-23; 8:45 am]

BILLING CODE 4312-52-P